DEPARTMENT OF ENERGY

Office of Energy Efficiency and Renewable Energy

Biomass Research and Development Technical Advisory Committee

AGENCY: Office of Energy Efficiency and Renewable Energy, Department of Energy.

ACTION: Notice of Open Meeting.

SUMMARY: This notice announces an open meeting of the Biomass Research and Development Technical Advisory Committee under the Biomass Research and Development Act of 2000. The Federal Advisory Committee Act (Pub. L. No. 92-463, 86 Stat. 770) requires that agencies publish these notices in the Federal Register to allow for public participation. This notice announces the meeting of the Biomass Research and Development Technical Advisory Committee.

Dates and Times: Tuesday, November 27, 2007, 1 p.m. to 5:30 p.m., Wednesday, November 28, 2007, 7:30 a.m. to 4:15 p.m.

ADDRESSES: Westin Arlington, 801 N. Glebe Road, F. Scott Fitzgerald Ballroom, Arlington, Virginia, Phone: (703) 717-6200.

FOR FURTHER INFORMATION CONTACT: Valri Lightner, Designated Federal Official for the Committee, Office of Energy Efficiency and Renewable Energy, U.S. Department of Energy, 1000 Independence Avenue, SW., Washington, DC 20585; (202) 586-0937 or Carolyn Clark at (410) 997-7778 * 235; E-mail: cclark@bcs-hq.com.

SUPPLEMENTARY INFORMATION: Purpose of Meeting: To provide advice and guidance that promotes research and development leading to the production of biobased fuels and biobased products.

Tentative Agenda

• Update on Biomass Program activities.

• Report on the Six Integrated Biorefinery Projects.

• Update on 2007 Farm Bill.

• Update on 2007 Joint Solicitation Projects.

• Presentation on the EPA Greenhouse Gas Rulemaking.

• Presentation: Bioenergy Research Centers—DOE Office of Science.

• Presentation: Biobased Products—Lou Honory, University of Iowa.

• Meeting with the Biomass R&D Board.

• Discussion: Approve 2008 Committee Work Plan.

Public Participation: In keeping with procedures, members of the public are welcome to observe the business of the Biomass Research and Development Technical Advisory Committee. To attend the meeting and/or to make oral statements regarding any of the items on the agenda, you should contact Valri Lightner at 202-586-0937; E-mail: valri.lightner@ee.doe.gov or Carolyn Clark at (410) 997-7778 * 235; E-mail: cclark@bcs-hq.com. You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC, on November 6, 2007.
Rachel Samuel,
Deputy Committee Management Officer.

[FR Doc. E7-22095 Filed 11-9-07; 8:45 am]

BILLING CODE 6450-01-P